DEPARTMENT OF COMMERCE

International Trade Administration

[A-489-826]

Certain Hot-Rolled Steel Flat Products From the Republic of Turkey: Final Results of Antidumping Duty Administrative Review and Final Determination of No Shipments; 2017-2018

AGENCY: Enforcement and Compliance, International Trade Administration, Department of Commerce.

SUMMARY: The Department of Commerce (Commerce) continues to find that Eregli Demir ve Celik Fabrikalari T.A.S. and Iskenderun Iron & Steel Works Co. (collectively, Erdemir Group) had no shipments of certain hot-rolled steel flat products (hot-rolled steel) from the Republic of Turkey (Turkey) to the United States during the period of review (POR), October 1, 2017 through September 30, 2018. Additionally, Commerce continues to determine that certain non-examined producers and exporters made sales of hot-rolled steel to the United States at prices below normal value (NV) during the POR.

DATES: Applicable October 6, 2020.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

On October 3, 2016, Commerce published an antidumping duty order on hot-rolled steel from Turkey.¹ Commerce published the Preliminary Results of the 2017-18 administrative review of the Order on December 17, 2019.² We preliminarily determined that the sole mandatory respondent, Colakoglu Metalurji A.S. and Colakoglu Dis Ticaret A.S. (collectively, Colakoglu), sold subject merchandise in the United States at prices below NV, and that the Erdemir Group made no shipments of subject merchandise to the United States during the POR.³

¹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

² See Certain Hot-Rolled Steel Flat Products from Republic of Turkey: Preliminary Results of Antidumping Duty Administrative Review and Preliminary Determination of No Shipments; 2017-2018, 84 FR 68878 (December 17, 2019) (Preliminary Results), and accompanying Preliminary Decision Memorandum (PDM).

³ Id.

On January 16, 2020, Colakoglu filed a case brief.⁴ On January 21, 2020, ArcelorMittal USA LLC (the petitioner) filed a rebuttal brief.⁵

⁴ See Colakoglu's Letter, “Colakoglu's Case Brief,” dated January 16, 2020.

⁵ See Petitioner's Letter, “Petitioner's Rebuttal Brief Regarding Colakoglu,” dated January 21, 2020.

On April 9, 2020, we extended the time limit for the final results of this review from 120 days to 178 days after publication of the Preliminary Results.⁶ On April 24, 2020, Commerce tolled all deadlines in administrative reviews by 50 days.⁷ Subsequently, on July 21, 2020, Commerce tolled all deadlines in administrative reviews by an additional 60 days.⁸ The deadline for the final results of this review is now September 30, 2020.

⁶ See Memorandum, “Certain Hot-Rolled Steel Flat Products from the Republic of Turkey: Extension of Deadline for Final Results of Antidumping Duty Administrative Review; 2017-2018,” dated April 9, 2020.

⁷ See Memorandum, “Tolling of Deadlines for Antidumping and Countervailing Duty Administrative Reviews in Response to Operational Adjustments Due to COVID-19,” dated April 24, 2020.

⁸ See Memorandum, “Tolling of Deadlines for Antidumping and Countervailing Duty Administrative Reviews,” dated July 21, 2020.

On May 15, 2020, Commerce discontinued this administrative review with respect to Colakoglu, based on the final judgment of the U.S. Court of International Trade (CIT) in the litigation associated with the underlying less-than-fair-value investigation.⁹

⁹ On April 13, 2020, the CIT issued its final judgment sustaining Commerce's final results of redetermination wherein Colakoglu's estimated weighted-average dumping margin from the underlying less-than-fair-value investigation changed from 6.77 percent to zero percent. See Eregli Demir ve Celik Fabrikalari T.A.S v. United States, 435 F. Supp. 3d 1378 (CIT 2020). Therefore, we excluded Colakoglu from the Order and discontinued this review of Colakoglu during the pendency of the appeals process. See Certain Hot-Rolled Steel Flat Products from Turkey: Notice of Court Decision Not in Harmony with the Amended Final Determination in the Less-Than-Fair-Value Investigation; Notice of Amended Final Determination, Amended Antidumping Duty Order, Notice of Revocation of Antidumping Duty Order in Part; and Discontinuation of the 2017-18 and 2018-19 Antidumping Duty Administrative Reviews, in Part, 85 FR 29399 (May 15, 2020) (Amended Final Determination and Amended Order).

The “Final Results of the Review” section lists the companies covered by these final results. Commerce conducted this review in accordance with section 751(a) of the Tariff Act of 1930, as amended (the Act).

Scope of the Order

The merchandise covered by the order is certain hot-rolled steel flat products from Turkey. For a complete description of the scope of this order, see the Preliminary Results.

Analysis of Comments Received

Colakoglu was the sole mandatory respondent in this administrative review, and all issues raised in Colakoglu's case brief and the petitioner's rebuttal brief relate to Colakoglu. Because Commerce discontinued this administrative review with respect to Colakoglu, effective April 23, 2020, we have not considered the issues raised in parties' briefs for these final results, and therefore there is no accompanying Issues and Decision Memorandum.

Changes Since the Preliminary Results

Because this review has been discontinued with respect to Colakoglu, we have not calculated a weighted-average dumping margin for these final results. Therefore, the weighted-average dumping margin determined for each of the non-examined companies is 2.73 percent from the Amended Final Determination and Amended Order.

Final Determination of No Shipments

In the Preliminary Results, we determined that Erdemir Group had no shipments.¹⁰ We received no comments with respect to this preliminary determination. As there is no record evidence which would call into question the Preliminary Results, we continue to find that the Erdemir Group had no shipments of subject merchandise during the POR. Consistent with our practice, we intend to instruct U.S. Customs and Border Protection (CBP) to liquidate any existing entries of subject merchandise associated with the Erdemir Group consistent with Commerce's reseller policy.¹¹

¹⁰ See Preliminary Results, 84 FR 68879, and accompanying PDM at 6.

¹¹ See Antidumping and Countervailing Duty Proceedings: Assessment of Antidumping Duties, 68 FR 23954 (May 6, 2003) (Reseller Policy).

Non-Examined Companies

The statute and Commerce's regulations do not address what rate to apply to companies who are not selected for individual examination when Commerce limits its examination in an administrative review pursuant to section 777A(c)(2) of the Act. Generally, Commerce looks to section 735(c)(5) of the Act, which provides instructions for calculating the all-others rate in a less-than-fair-value (LTFV) investigation, for guidance when calculating the rate for non-examined companies in an administrative review. Under section 735(c)(5)(A) of the Act, the all-others rate is normally “an amount equal to the weighted-average of the estimated weighted-average dumping margins established for exporters and producers individually investigated, excluding any zero or de minimis margins, and any margins determined entirely {on the basis of facts available}.” However, section 735(c)(5)(B) of the Act states that if the weighted-average dumping margins for all individually examined companies are zero, de minimis or based entirely on facts available, then Commerce may use “any reasonable method” for assigning a rate to non-examined companies.

As a result of Colakoglu's exclusion from the Order after the publication of the Preliminary Results, and no selection of another company for individual examination, there is no calculated weighted-average dumping margin in these final results which can be used to determine the weighted-average dumping margin for the non-examined companies. Further, after excluding Colakoglu, the only individually calculated rate in any segment of this proceeding is the 2.73 percent rate calculated for Erdemir Group in the LTFV investigation, and assigned as the all-others rate in the Amended Final Determination and Amended Order.¹² Therefore, we have assigned the 2.73 percent rate for Erdemir Group and all other producers and exporters as the weighted-average dumping margin for the non-examined companies in this administrative review.

¹² See Amended Final Determination and Amended Order, 85 FR at 29400.

Final Results of the Review

Commerce determines that the following weighted-average dumping margins exist for the period October 1, 2017 through September 30, 2018:

Exporter or producer | Weighted- average dumping margin (percent)
Agir Haddecilik A.S | 2.73
Cag Celik Demir ve Celik | 2.73
Gazi Metal Mamulleri Sanayi Ve Ticaret A.S | 2.73
Habas Industrial and Medical Gases Production Industries Inc | 2.73
Habas Sinai ve Tibbi Gazlar Istihsal Endustrisi | 2.73
MMK Atakas Metalurji | 2.73
Ozkan Iron and Steel Ind | 2.73
Seametal San ve Dis Tic | 2.73
Tosyali Holding (Toscelik Profile and Sheet Ind. Co., Toscelik Profil ve Sac) | 2.73

Disclosure

Commerce made no calculations as part of these final results. Consequently, there is no information to disclose to parties as a result of these final results of review.

Assessment

Pursuant to section 751(a)(2)(C) of the Act and 19 CFR 351.212(b), Commerce shall determine, and CBP shall assess, antidumping duties on all appropriate entries of subject merchandise in accordance with the final results of this administrative review. Commerce intends to issue assessment instructions to CBP 15 days after the date of publication of the final results of this administrative review in the Federal Register.

For the companies which were not selected for individual review, where a company's weighted-average dumping margin is not zero or de minimis (i.e., less than 0.5 percent), we will instruct CBP to assess antidumping duties for that company's entries of subject merchandise during the POR at an ad valorem rate equal to the weighted-average dumping margin determined for that company in the final results of this review. For a company where the weighted-average dumping margin is zero or de minimis, we will instruct CBP to liquidate that company's suspended entries of subject merchandise without regard to antidumping duties.

Because we continue to find that the Erdemir Group had no shipments of subject merchandise during the POR, we will instruct CBP to liquidate suspended entries of subject merchandise attributed to the Erdemir Group at the all-others rate from the Amended Final Determination and Amended Order if there is no rate for the intermediate company(ies) involved in the transaction.¹³

¹³ For a full discussion of this practice, see Reseller Policy.

Cash Deposit Requirements

The following cash deposit requirements will be effective for all shipments of subject merchandise entered, or withdrawn from warehouse, for consumption on or after the publication date of the final results of this administrative review, as provided by section 751(a)(2)(C) of the Act: (1) For the companies identified above in the Final Results of Review section, the cash deposit rates will be equal to the company-specific weighted-average dumping margin established in the final results of this review, except that where the weighted-average dumping margin is de minimis (i.e., less than 0.5 percent) the cash deposit rate will be zero; (2) for previously reviewed or investigated companies not participating in this administrative review, the cash deposit rate will continue to be the company-specific rate published for the most recently completed segment of this proceeding; (3) if the exporter is not a firm covered in this review, a previous review, or the underlying LTFV investigation, but the producer is, then the cash deposit rate will be the rate established for the most recently completed segment of this proceeding for the producer of subject merchandise; and (4) the cash deposit rate for all other producers or exporters will be 2.73 percent, the all-others rate established in the Amended Final Determination and Amended Order. These cash deposit requirements, when imposed, shall remain in effect until further notice.

Notification to Importers

This notice serves as a final reminder to importers of their responsibility under 19 CFR 351.402(f)(2) to file a certificate regarding the reimbursement of antidumping and/or countervailing duties prior to liquidation of the relevant entries during this review period. Failure to comply with this requirement could result in the presumption that reimbursement of antidumping and/or countervailing duties occurred and the subsequent assessment of double antidumping duties.

Administrative Protective Order

This notice also serves as a reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act and 19 CFR 351.213(h) and 19 CFR 351.221(b)(5).

Dated: September 30, 2020.
Jeffrey I. Kessler,
Assistant Secretary for Enforcement and Compliance.

[FR Doc. 2020-22052 Filed 10-5-20; 8:45 am]

BILLING CODE 3510-DS-P